DEPARTMENT OF THE INTERIOR

Fish and Wildlife Service

[FWS-R1-ES-2019-N163; FXES11130100000C4-201-FF01E00000]

Endangered and Threatened Wildlife and Plants; Initiation of 5-Year Status Reviews for 129 Species in Oregon, Washington, Idaho, Hawaii, Montana, California, and Nevada

AGENCY: Fish and Wildlife Service, Interior.

ACTION: Notice of initiation of reviews; request for information.

SUMMARY: We, the U.S. Fish and Wildlife Service, are initiating 5-year status reviews for 129 species in Oregon, Washington, Idaho, Hawaii, Montana, California, and Nevada under the Endangered Species Act of 1973. A 5-year status review is based on the best scientific and commercial data available at the time of the review; therefore, we are requesting submission of any new information on these species that has become available since the last reviews.

DATES: To ensure consideration in our reviews, we are requesting submission of new information no later than May 11, 2020. However, we will continue to accept new information about any species at any time.

ADDRESSES: Submitting Information on Species:

• Gentner's fritillary:

• U.S. mail: State Supervisor, Attention: 5-Year Review, U.S. Fish and Wildlife Service, Oregon Fish and Wildlife Office, 2600 SE 98th Ave., Suite 100, Portland, OR 97266; or

• Email: fw1ofwo@fws.gov.

• Bull trout, MacFarlane's four-o'clock, and slickspot peppergrass:

• U.S. mail: Project Leader, Attention: 5-Year Review, U.S. Fish and Wildlife Service, Idaho Fish and Wildlife Office, 1387 S Vinnell Way, Suite 368, Boise, ID 83709; or

• Email: ifwo@fws.gov.

• Any of the 125 species occurring in Hawaii:

• U.S. mail: Field Supervisor, Attention: 5-Year Review, U.S. Fish and Wildlife Service, Pacific Islands Fish and Wildlife Office, 300 Ala Moana Blvd., Room 3-122, Honolulu, HI 96850; or

• Email: pifwo_admin@fws.gov.

FOR FURTHER INFORMATION CONTACT: Individuals who are hearing impaired or speech impaired may call the Federal Relay Service at 800-877-8339 for TTY assistance. For information about the various species, contact the following people.

• Gentner's fritillary: Jeff Dillon, Oregon Fish and Wildlife Office, 503-231-6179.

• Bull trout, MacFarlane's four-o'clock, and slickspot peppergrass: Kathleen Hendricks, Idaho Fish and Wildlife Office, 208-378-5243.

• Any of the 125 species occurring in Hawaii: Megan Laut, Pacific Islands Fish and Wildlife Office, 808-792-9400.

SUPPLEMENTARY INFORMATION:

Why do we conduct 5-year status reviews?

Under the Endangered Species Act of 1973, as amended (Act; 16 U.S.C. 1531, et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year status reviews, refer to our factsheet at http://www.fws.gov/endangered/what-we-do/recovery-overview.html.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of the 129 species listed in the table below.

Common name | Scientific name | Status | Known range of species occurrence | Final listing rule and publication date
ANIMALS
Birds:
Millerbird, Nihoa | Acrocephalus familiaris kingi | Endangered | Hawaii | 32 FR 4001, 3/11/1967.
Duck, Laysan | Anas laysanensis | Endangered | Hawaii | 32 FR 4001, 3/11/1967.
Akekee | Loxops caeruleirostris | Endangered | Hawaii | 75 FR 18960, 4/13/2010.
Akikiki | Oreomystis bairdi | Endangered | Hawaii | 75 FR 18960, 4/13/2010.
Petrel, Hawaiian | Pterodroma sandwichensis | Endangered | Hawaii | 32 FR 4001, 3/11/1967.
Finch, Laysan | Telespyza cantans | Endangered | Hawaii | 32 FR 4001, 3/11/1967.
Finch, Nihoa | Telespyza ultima | Endangered | Hawaii | 32 FR 4001, 3/11/1967.
Fishes:
Trout, bull (coterminous U.S. distinct population segment) | Salvelinus confluentus | Threatened | Washington, Oregon, Idaho, Nevada, Montana | 64 FR 58910, 11/01/1999.
Snails:
Snail, Newcomb's | Erinna newcombi | Threatened | Hawaii | 65 FR 4162, 1/26/2000.
Arachnids:
Spider, Kauai cave wolf or pee pee maka ole | Adelocosa anops | Endangered | Hawaii | 65 FR 2348, 1/14/2000.
Crustaceans:
Amphipod, Kauai cave | Spelaeorchestia koloana | Endangered | Hawaii | 65 FR 2348, 1/14/2000.
Insects:
Fly, Hawaiian picture-wing | Drosophila musaphilia | Endangered | Hawaii | 71 FR 26835, 5/9/2006.
Fly, Hawaiian picture-wing | Drosophila sharpi | Endangered | Hawaii | 75 FR 18960, 4/13/2010.
PLANTS
Flowering Plants:
No common name | Amaranthus brownii | Endangered | Hawaii | 61 FR 43178, 8/21/1996.
Painiu | Astelia waialealae | Endangered | Hawaii | 75 FR 18960, 4/13/2010.
Olulu | Brighamia insignis | Endangered | Hawaii | 59 FR 9304, 2/25/1994.
Awikiwiki | Canavalia napaliensis | Endangered | Hawaii | 75 FR 18960, 4/13/2010.
Papala | Charpentiera densiflora | Endangered | Hawaii | 75 FR 18960, 4/13/2010.
Haha | Cyanea asarifolia | Endangered | Hawaii | 59 FR 9304, 2/25/1994.
Haha | Cyanea dolichopoda | Endangered | Hawaii | 75 FR 18960, 4/13/2010.
Haha | Cyanea eleeleensis | Endangered | Hawaii | 75 FR 18960, 4/13/2010.
Haha | Cyanea kolekoleensis | Endangered | Hawaii | 75 FR 18960, 4/13/2010.
Haha | Cyanea kuhihewa | Endangered | Hawaii | 75 FR 18960, 4/13/2010.
Haha | Cyanea recta | Threatened | Hawaii | 61 FR 53070, 10/10/1996.
Haha | Cyanea remyi | Endangered | Hawaii | 61 FR 53070, 10/10/1996.
Haha | Cyanea rivularis | Endangered | Hawaii | 61 FR 53070, 10/10/1996.
No common name | Cyanea undulata | Endangered | Hawaii | 56 FR 47695, 9/20/1991.
Mapele | Cyrtandra cyaneoides | Endangered | Hawaii | 61 FR 53070, 10/10/1996.
Haiwale | Cyrtandra limahuliensis | Threatened | Hawaii | 59 FR 9304, 2/25/1994.
Haiwale | Cyrtandra oenobarba | Endangered | Hawaii | 75 FR 18960, 4/13/2010.
Haiwale | Cyrtandra paliku | Endangered | Hawaii | 75 FR 18960, 4/13/2010.
No common name | Delissea rhytidosperma | Endangered | Hawaii | 59 FR 9304, 2/25/1994.
Naenae | Dubautia imbricata ssp. imbricata | Endangered | Hawaii | 75 FR 18960, 4/13/2010.
Naenae | Dubautia kalalauensis | Endangered | Hawaii | 75 FR 18960, 4/13/2010.
Naenae | Dubautia kenwoodii | Endangered | Hawaii | 75 FR 18960, 4/13/2010.
Koholapehu | Dubautia latifolia | Endangered | Hawaii | 57 FR 20580, 5/13/1992.
Naenae | Dubautia pauciflorula | Endangered | Hawaii | 56 FR 47695, 9/20/1991.
Naenae | Dubautia plantaginea ssp. magnifolia | Endangered | Hawaii | 75 FR 18960, 4/13/2010.
Naenae | Dubautia waialealae | Endangered | Hawaii | 75 FR 18960, 4/13/2010.
Akoko | Euphorbia eleanoriae | Endangered | Hawaii | 75 FR 18960, 4/13/2010.
Akoko | Euphorbia haeleeleana | Endangered | Hawaii | 61 FR 53108, 10/10/1996.
Akoko | Euphorbia halemanui | Endangered | Hawaii | 57 FR 20850, 5/13/1992.
Akoko | Euphorbia remyi var. kauaiensis | Endangered | Hawaii | 76 FR 15609, 5/5/2011.
Akoko | Euphorbia remyi var. remyi | Endangered | Hawaii | 76 FR 15609, 5/5/2011.
Heau | Exocarpos luteolus | Endangered | Hawaii | 59 FR 9304, 2/25/1994.
Fritillary, Gentner's | Fritillaria gentneri | Endangered | Oregon, California | 64 FR 69195, 12/10/1999.
Nohoanu | Geranium kauaiense | Endangered | Hawaii | 75 FR 18960, 4/13/2010.
No common name | Gouania meyenii | Endangered | Hawaii | 56 FR 55770, 10/29/1991.
No common name | Hesperomannia lydgatei | Endangered | Hawaii | 56 FR 47695, 9/20/1991.
Kauai hau kuahiwi | Hibiscadelphus distans | Endangered | Hawaii | 51 FR 15903, 4/29/1986.
Hau kuahiwi | Hibiscadelphus woodii | Endangered | Hawaii | 61 FR 53070, 10/10/1996.
Hibiscus, Clay's | Hibiscus clayi | Endangered | Hawaii | 59 FR 9304, 2/25/1994.
Kokio keokeo | Hibiscus waimeae ssp. hannerae | Endangered | Hawaii | 61 FR 53070, 10/10/1996.
Aupaka | Isodendrion laurifolium | Endangered | Hawaii | 61 FR 53108, 10/10/1996.
No common name | Kadua st.-johnii | Endangered | Hawaii | 56 FR 49639, 9/30/1991.
No common name | Keysseria erici | Endangered | Hawaii | 75 FR 18960, 4/13/2010.
No common name | Keysseria helenae | Endangered | Hawaii | 75 FR 18960, 4/13/2010.
Koki'o | Kokia kauaiensis | Endangered | Hawaii | 61 FR 53070, 10/10/1996.
Kamakahala | Labordia helleri | Endangered | Hawaii | 75 FR 18960, 4/13/2010.
Kamakahala | Labordia lydgatei | Endangered | Hawaii | 56 FR 47695, 9/20/1991.
Kamakahala | Labordia pumila | Endangered | Hawaii | 75 FR 18960, 4/13/2010.
Kamakahala | Labordia tinifolia var. wahiawaensis | Endangered | Hawaii | 61 FR 53070, 10/10/1996.
Peppergrass, Slickspot | Lepidium papilliferum | Threatened | Idaho | 81 FR 55058, 8/17/2016.
Nehe | Lipochaeta fauriei | Endangered | Hawaii | 59 FR 9304, 2/25/1994.
Nehe | Lipochaeta micrantha | Endangered | Hawaii | 59 FR 9304, 2/25/1994.
Nehe | Lipochaeta waimeaensis | Endangered | Hawaii | 59 FR 9304, 2/25/1994.
No common name | Lobelia niihauensis | Endangered | Hawaii | 56 FR 55770, 10/29/1991.
Lehua makanoe | Lysimachia daphnoides | Endangered | Hawaii | 75 FR 18960, 4/13/2010.
No common name | Lysimachia filifolia | Endangered | Hawaii | 59 FR 9304, 2/25/1994.
No common name | Lysimachia iniki | Endangered | Hawaii | 75 FR 18960, 4/13/2010.
No common name | Lysimachia pendens | Endangered | Hawaii | 75 FR 18960, 4/13/2010.
No common name | Lysimachia scopulensis | Endangered | Hawaii | 75 FR 18960, 4/13/2010.
No common name | Lysimachia venosa | Endangered | Hawaii | 75 FR 18960, 4/13/2010.
Alani | Melicope degeneri | Endangered | Hawaii | 75 FR 18960, 4/13/2010.
Alani | Melicope haupuensis | Endangered | Hawaii | 59 FR 9304, 2/25/1994.
Alani | Melicope pallida | Endangered | Hawaii | 59 FR 9304, 2/25/1994.
Alani | Melicope paniculata | Endangered | Hawaii | 75 FR 18960, 4/13/2010.
Alani | Melicope puberula | Endangered | Hawaii | 75 FR 18960, 4/13/2010.
Alani | Melicope quadrangularis | Endangered | Hawaii | 59 FR 9304, 2/25/1994.
Four-o'clock, MacFarlane's | Mirabilis macfarlanei | Threatened | Oregon, Idaho | 44 FR 61912, 10/26/1979.
Kolea | Myrsine knudsenii | Endangered | Hawaii | 75 FR 18960, 4/13/2010.
Kolea | Myrsine linearifolia | Threatened | Hawaii | 61 FR 53070, 10/10/1996.
Kolea | Myrsine mezii | Endangered | Hawaii | 75 FR 18960, 4/13/2010.
Aiea | Nothocestrum peltatum | Endangered | Hawaii | 59 FR 9304, 2/25/1994.
Lau ehu | Panicum niihauense | Endangered | Hawaii | 61 FR 53108, 10/10/1996.
No common name | Phyllostegia knudsenii | Endangered | Hawaii | 61 FR 53070, 10/10/1996.
No common name | Phyllostegia renovans | Endangered | Hawaii | 75 FR 18960, 4/13/2010.
No common name | Phyllostegia waimeae | Endangered | Hawaii | 59 FR 9304, 2/25/1994.
No common name | Phyllostegia wawrana | Endangered | Hawaii | 61 FR 53070, 10/10/1996.
Hoawa | Pittosporum napaliense | Endangered | Hawaii | 75 FR 18960, 4/13/2010.
Pilo kea lau lii | Platydesma rostrata | Endangered | Hawaii | 75 FR 18960, 4/13/2010.
Bluegrass, Mann's | Poa mannii | Endangered | Hawaii | 59 FR 56330, 11/10/1994.
Bluegrass, Hawaiian | Poa sandvicensis | Endangered | Hawaii | 57 FR 20580, 5/13/1992.
No common name | Poa siphonoglossa | Endangered | Hawaii | 57 FR 20580, 5/13/1992.
No common name | Polyscias bisattenuata | Endangered | Hawaii | 75 FR 18960, 4/13/2010.
No common name | Polyscias flynnii | Endangered | Hawaii | 75 FR 18960, 4/13/2010.
No common name | Polyscias racemosa | Endangered | Hawaii | 59 FR 9304, 2/25/1994.
Loulu | Pritchardia hardyi | Endangered | Hawaii | 75 FR 18960, 4/13/2010.
Loulu | Pritchardia napaliensis | Endangered | Hawaii | 61 FR 53070, 10/10/1996.
Loulu | Pritchardia remota | Endangered | Hawaii | 61 FR 43178, 8/21/1996.
Loulu | Pritchardia viscosa | Endangered | Hawaii | 61 FR 53070, 10/10/1996.
Kopiko | Psychotria grandiflora | Endangered | Hawaii | 75 FR 18960, 4/13/2010.
Kopiko | Psychotria hobdyi | Endangered | Hawaii | 75 FR 18960, 4/13/2010.
Kaulu | Pteralyxia kauaiensis | Endangered | Hawaii | 59 FR 9304, 2/25/1994.
No common name | Remya kauaiensis | Endangered | Hawaii | 56 FR 1450, 1/14/1991.
No common name | Remya montgomeryi | Endangered | Hawaii | 56 FR 1450, 1/14/1991.
Maolioli | Schiedea apokremnos | Endangered | Hawaii | 56 FR 49639, 9/30/1991.
No common name | Schiedea attenuata | Endangered | Hawaii | 75 FR 18960, 4/13/2010.
No common name | Schiedea helleri | Endangered | Hawaii | 61 FR 53070, 10/10/1996.
No common name | Schiedea kauaiensis | Endangered | Hawaii | 61 FR 53108, 10/10/1996.
Kuawawaenohu | Schiedea lychnoides | Endangered | Hawaii | 61 FR 53070, 10/10/1996.
No common name | Schiedea membranacea | Endangered | Hawaii | 61 FR 53070, 10/10/1996.
No common name | Schiedea spergulina var. leiopoda | Endangered | Hawaii | 59 FR 9304, 2/25/1994.
No common name | Schiedea spergulina var. spergulina | Threatened | Hawaii | 59 FR 9304, 2/25/1994.
Laulihilihi | Schiedea stellarioides | Endangered | Hawaii | 61 FR 53070, 10/10/1996.
No common name | Schiedea verticillata | Endangered | Hawaii | 61 FR 43178, 8/21/1996.
No common name | Schiedea viscosa | Endangered | Hawaii | 61 FR 53070, 10/10/1996.
Aiakeakua, popolo | Solanum sandwicense | Endangered | Hawaii | 59 FR 9304, 2/25/1994.
No common name | Stenogyne campanulata | Endangered | Hawaii | 57 FR 20580, 5/13/1992.
No common name | Stenogyne kealiae | Endangered | Hawaii | 75 FR 18960, 4/13/2010.
No common name | Viola helenae | Endangered | Hawaii | 56 FR 47695, 9/20/1991.
Nani waialeale | Viola kauaiensis var. wahiawaensis | Endangered | Hawaii | 61 FR 53070, 10/10/1996.
Iliau, dwarf | Wilkesia hobdyi | Endangered | Hawaii | 57 FR 27859, 6/22/1992.
No common name | Xylosma crenatum | Endangered | Hawaii | 57 FR 20580, 5/13/1992.
Ferns:
No common name | Asplenium dielmannii | Endangered | Hawaii | 75 FR 18960, 4/13/2010.
No common name | Asplenium dielpallidum | Endangered | Hawaii | 59 FR 9304, 2/25/1994.
No common name | Doryopteris angelica | Endangered | Hawaii | 75 FR 18960, 4/13/2010.
Aumakua, Palapalai | Dryopteris crinalis var. podosorus | Endangered | Hawaii | 75 FR 18960, 4/13/2010.
Wawaeiole | Huperzia nutans | Endangered | Hawaii | 59 FR 14482, 3/28/1994.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Completed and Active Reviews

A list of all completed and currently active 5-year status reviews addressing species for which our Regional Office has lead responsibility is available at http://www.fws.gov/pacific/ecoservices/endangered/recovery/5year.html.

Authority

This document is published under the authority of the Endangered Species Act of 1973, as amended (16 U.S.C. 1531, et seq.).

Mary M. Abrams,
Acting Regional Director, U.S. Fish and Wildlife Service.

[FR Doc. 2020-04942 Filed 3-10-20; 8:45 am]

BILLING CODE 4333-15-P